DEPARTMENT OF COMMERCE

National Oceanic and Atmospheric Administration

50 CFR Part 679

[Docket No. 0910131362-91411-01]

RIN 0648-XS43

Fisheries of the Exclusive Economic Zone Off Alaska; Gulf of Alaska; Proposed 2010 and 2011 Harvest Specifications for Groundfish

AGENCY: National Marine Fisheries Service (NMFS), National Oceanic and Atmospheric Administration (NOAA), Commerce.

ACTION: Proposed rule; request for comments.

SUMMARY: NMFS proposes 2010 and 2011 harvest specifications, apportionments, and Pacific halibut prohibited species catch limits for the groundfish fishery of the Gulf of Alaska (GOA). This action is necessary to establish harvest limits for groundfish during the 2010 and 2011 fishing years and to accomplish the goals and objectives of the Fishery Management Plan for Groundfish of the Gulf of Alaska. The intended effect of this action is to conserve and manage the groundfish resources in the GOA in accordance with the Magnuson-Stevens Fishery Conservation and Management Act.

DATES: Comments must be received by December 30, 2009.

ADDRESSES: Send comments to Sue Salveson, Assistant Regional Administrator, Sustainable Fisheries Division, Alaska Region, NMFS, Attn: Ellen Sebastian. You may submit comments, identified by RIN 0648-XS43, by any one of the following methods:

• Electronic Submissions: Submit all electronic public comments via the Federal eRulemaking Portal http://www.regulations.gov.

• Mail: P.O. Box 21668, Juneau, AK 99802.

• Fax: (907) 586-7557.

• Hand delivery to the Federal Building: 709 West 9th Street, Room 420A, Juneau, AK.

All comments received are a part of the public record. No comments will be posted to http://www.regulations.gov for public viewing until after the comment period has closed. Comments will generally be posted without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

Electronic copies of the Alaska Groundfish Harvest Specifications Final Environmental Impact Statement (Final EIS) and the Initial Regulatory Flexibility Analysis (IRFA) prepared for this action may be obtained from http://www.regulations.gov or from the Alaska Region Web site at http://alaskafisheries.noaa.gov. Copies of the final 2008 Stock Assessment and Fishery Evaluation (SAFE) report for the groundfish resources of the Gulf of Alaska (GOA), dated November 2008, are available from the North Pacific Fishery Management Council (Council) at 605 West 4th Avenue, Suite 306, Anchorage, AK 99510-2252, phone 907-271-2809, or from the Council's Web site at http://alaskafisheries.noaa.gov/npfmc.

FOR FURTHER INFORMATION CONTACT: Tom Pearson, 907-481-1780, or Obren Davis, 907-586-7228.

SUPPLEMENTARY INFORMATION: NMFS manages the GOA groundfish fisheries in the exclusive economic zone (EEZ) of the GOA under the Fishery Management Plan for Groundfish of the Gulf of Alaska (FMP). The Council prepared the FMP under the authority of the Magnuson-Stevens Fishery Conservation and Management Act (Magnuson-Stevens Act), 16 U.S.C. 1801, et seq. Regulations governing U.S. fisheries and implementing the FMP appear at 50 CFR parts 600, 679, and 680.

These proposed specifications are based in large part on the 2008 SAFE report (see ADDRESSES). In December 2009, the Council will consider the 2009 SAFE report to develop its recommendations for the final 2010 and 2011 acceptable biological catch (ABC) amounts and total allowable catch (TAC) limits. Anticipated changes in the final specifications from the proposed specifications are identified in this notice for public review.

The FMP and its implementing regulations require NMFS, after consultation with the Council, to specify the TACs for each target species and for the “other species” category, the sum of which must be within the optimum yield (OY) range of 116,000 to 800,000 metric tons (mt). Section 679.20(c)(1) further requires NMFS to publish and solicit public comment on proposed annual TACs for target species and “other species,” halibut prohibited species catch (PSC) amounts, and seasonal allowances of pollock and inshore/offshore Pacific cod. The proposed specifications in Tables 1 through 18 of this document satisfy these requirements. For 2010 and 2011, the sum of the proposed TAC amounts is 284,688 mt. Under § 679.20(c)(3), NMFS will publish the final 2010 and 2011 specifications after (1) considering comments received within the comment period (see DATES), (2) consulting with the Council at its December 2009 meeting, and (3) considering information presented in the Final EIS (see ADDRESSES) and the final 2009 SAFE report prepared for the 2010 and 2011 groundfish fisheries.

Other Actions Potentially Affecting the 2010 and 2011 Harvest Specifications

The Council is developing an amendment to the FMP to comply with Magnuson-Stevens Act requirements associated with annual catch limits and accountability measures. That amendment may result in revisions to how total annual groundfish mortality is estimated and accounted for in the annual SAFE reports, which in turn may affect the overfishing levels (OFLs) and ABC amounts for certain groundfish species. NMFS will attempt to identify additional sources of mortality to groundfish stocks not currently reported or considered by the groundfish stock assessments in recommending OFL, ABC, and TAC for certain groundfish species. These additional sources of mortality may include recreational fishing, subsistence fishing, catch of groundfish during the NMFS trawl and hook-and-line surveys, catch taken under experimental fishing permits issued by NMFS, discarded catch of groundfish in the commercial halibut fisheries, use of groundfish as bait in the crab fisheries, or other sources of mortality not yet identified.

The Council also is considering a proposal that would allocate the Western and Central Gulf of Alaska Pacific cod TACs among the trawl, pot, hook-and-line, and jig catcher vessel and catcher processor sectors. Sector allocations may provide stability to long-term participants in the fishery by reducing competition among sectors for access to the GOA Pacific cod resource.

These changes will not be in effect until 2011 at the earliest, which could affect the 2011 OFLs, ABCs, and TACs included in this action.

Proposed ABC and TAC Specifications

In October 2009, the Council, the Scientific and Statistical Committee (SSC), and the Advisory Panel (AP), reviewed current biological and harvest information about the condition of groundfish stocks in the GOA. This information was initially compiled by the GOA Groundfish Plan Team (Plan Team) and was presented in the final 2008 SAFE report for the GOA groundfish fisheries, dated November 2008 (see ADDRESSES). The SAFE report contains a review of the latest scientific analyses and estimates of each species' biomass and other biological parameters, as well as summaries of the available information on the GOA ecosystem and the economic condition of the groundfish fisheries off Alaska. From these data and analyses, the Plan Team estimates an ABC for each species category. The Plan Team will update the 2008 SAFE report to include new information collected during 2009. The Plan Team will provide revised stock assessments in November 2009 in the final 2009 SAFE report. The Council will review the 2009 SAFE report in December 2009. The final 2010 and 2011 harvest specifications may be adjusted from the proposed harvest specifications based on the 2009 SAFE report.

The proposed ABCs and TACs are based on the best available biological and socioeconomic data, including projected biomass trends, information on assumed distribution of stock biomass, and revised methods used to calculate stock biomass. The FMP specifies the formulas, or tiers, to be used to compute ABCs and OFLs. The formulas applicable to a particular stock or stock complex are determined by the level of reliable information available to fisheries scientists. This information is categorized into a successive series of six tiers with tier one representing the highest level of information quality available and tier six representing the lowest level of information quality available.

The SSC adopted the proposed 2010 and 2011 OFLs and ABCs recommended by the Plan Team for all groundfish species. These proposed amounts are unchanged from the final 2010 harvest specifications published in the Federal Register on February 17, 2009 (74 FR 7333). The AP and the Council recommendations for the proposed 2010 and 2011 OFL, ABC, and TAC amounts are also based on the final 2010 harvest specifications published in the Federal Register on February 17, 2009 (74 FR 7333). For 2010 and 2011, the Council recommended and NMFS proposes the OFLs and ABCs listed in Table 1. The proposed ABCs reflect harvest amounts that are less than the specified overfishing amounts. The sum of the proposed 2010 and 2011 ABCs for all assessed groundfish is 562,762 mt, which is higher than the final 2009 ABC total of 516,055 mt (74 FR 7333, February 17, 2009).

Specification and Apportionment of TAC Amounts

The Council recommended proposed TACs for 2010 and 2011 that are equal to proposed ABCs for pollock, deep-water flatfish, rex sole, sablefish, Pacific ocean perch, shortraker rockfish, rougheye rockfish, northern rockfish, pelagic shelf rockfish, thornyhead rockfish, demersal shelf rockfish, and skates. The Council recommended proposed TACs for 2010 and 2011 that are less than the proposed ABCs for Pacific cod, flathead sole, shallow-water flatfish, arrowtooth flounder, other rockfish, Atka mackerel, and the “other species” category.

The apportionment of annual pollock TAC among the Western and Central Regulatory Areas of the GOA reflects the seasonal biomass distribution and is discussed in greater detail below. The annual pollock TAC in the Western and Central Regulatory Areas of the GOA is apportioned among Statistical Areas 610, 620, and 630, as well as equally among each of the following four seasons: the A season (January 20 through March 10), the B season (March 10 through May 31), the C season (August 25 through October 1), and the D season (October 1 through November 1) (50 CFR 679.23(d)(2)(i) through (iv), and 679.20(a)(5)(iv)(A), (B)).

As in 2009, the SSC and Council recommended that the method of apportioning the sablefish ABC among management areas in 2010 and 2011 include commercial fishery and survey data. NMFS stock assessment scientists believe that unbiased commercial fishery catch-per-unit-effort data are useful for stock distribution assessments. NMFS annually evaluates the use of commercial fishery data to ensure that unbiased information is included in stock distribution models. The Council's recommendation for sablefish area apportionments also takes into account the prohibition on the use of trawl gear in the Southeast Outside (SEO) District of the Eastern Regulatory Area; the SEO District, together with the West Yakutat District (WYK), comprise the Eastern Regulatory Area. Separate sablefish TACs are specified for each district. The Council continued to recommend that five percent of the combined Eastern Regulatory Area TAC be apportioned to trawl gear for use as incidental catch in other directed groundfish fisheries in the WYK District (§ 679.20(a)(4)(i)).

The AP, SSC, and Council recommended apportionment of the ABC for Pacific cod in the GOA among regulatory areas based on the three most recent NMFS summer trawl surveys. The proposed 2010 and 2011 Pacific cod TACs are affected by the State of Alaska's (State) fishery for Pacific cod in State waters in the Western and Central Regulatory Areas, as well as in Prince William Sound. The Plan Team, SSC, AP, and Council recommended that the sum of all State and Federal water Pacific cod removals from the GOA not exceed ABC recommendations. Accordingly, the Council recommended reducing the proposed 2010 and 2011 Pacific cod TACs from the proposed ABCs in the Western and Central Regulatory Areas to account for State guideline harvest levels. Therefore, the proposed 2010 and 2011 Pacific cod TACs are less than the proposed ABCs by the following amounts: (1) Eastern GOA, 318 mt; (2) Central GOA, 11,329 mt; and (3) Western GOA, 7,751 mt. These amounts reflect the sum of the State's 2010 and 2011 guideline harvest levels in these areas, which are 10 percent, 25 percent, and 25 percent of the Eastern, Central, and Western GOA proposed ABCs, respectively.

NMFS also is proposing seasonal apportionments of the annual Pacific cod TACs in the Western and Central Regulatory Areas. Sixty percent of the annual TAC is apportioned to the A season for hook-and-line, pot, or jig gear from January 1 through June 10, and for trawl gear from January 20 through June 10. Forty percent of the annual TAC is apportioned to the B season for hook-and-line, pot, or jig gear from September 1 through December 31, and for trawl gear from September 1 through November 1 (50 CFR 679.23(d)(3) and 679.20(a)(12)).

As in 2009, NMFS proposes to establish for 2010 and 2011 an A season directed fishing allowance for the Pacific cod fisheries in the GOA based on the management area TACs minus the recent average A season incidental catch of Pacific cod in each management area before June 10 (§ 679.20(d)(1)). The directed fishing allowance and incidental catch before June 10 will be managed such that total catch in the A season will be no more than 60 percent of the annual TAC. Incidental catch taken after June 10 will continue to be taken from the B season TAC. This action meets the intent of the Steller sea lion protection measures by achieving temporal dispersion of the Pacific cod removals and reducing the likelihood of catch exceeding 60 percent of the annual TAC in the A season (January 1 through June 10) (69 FR 75865, December 20, 2004).

The sum of the proposed TACs for all GOA groundfish is 284,688 mt for 2010 and 2011, which is within the OY range specified by the FMP. The sum of the proposed 2010 TACs and the sum of the proposed 2011 TACs are each higher than the sum of the 2009 TACs of 242,727 mt, but are unchanged from the 2010 TACs currently specified for the GOA groundfish fisheries (74 FR 7333, February 17, 2009).

Table 1 lists the proposed 2010 and 2011 ABCs, TACs, and OFLs of groundfish. These amounts are consistent with the biological condition of groundfish stocks as described in the 2008 SAFE report, and adjusted for other biological and socioeconomic considerations, including maintaining the total TAC within the required OY range. These proposed amounts are subject to change pending the completion of the 2009 SAFE report and the Council's recommendations for the final 2010 and 2011 harvest specifications during its December 2009 meeting.

Table 1—Proposed 2010 and 2011 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska
[Values are rounded to the nearest metric ton]
Species | Area ¹ | ABC | TAC | OFL
Pollock ² | Shumagin (610) | 24,199 | 24,199 | n/a
| Chirikof (620) | 22,374 | 22,374 | n/a
| Kodiak (630) | 17,548 | 17,548 | n/a
| WYK (640) | 1,929 | 1,929 | n/a
| W/C/WYK (subtotal) | 66,050 | 66,050 | 90,920
| SEO (650) | 8,280 | 8,280 | 11,040
| Total | 74,330 | 74,330 | 101,960
Pacific cod ³ | W | 31,005 | 23,254 | n/a
| C | 45,315 | 33,986 | n/a
| E | 3,180 | 2,862 | n/a
| Total | 79,500 | 60,102 | 126,000
Sablefish ⁴ | W | 1,523 | 1,523 | n/a
| C | 4,625 | 4,625 | n/a
| WYK | 1,645 | 1,645 | n/a
| SEO | 2,544 | 2,544 | n/a
| E (WYK and SEO) (subtotal) | 4,189 | 4,189 | n/a
| Total | 10,337 | 10,337 | 12,321
Shallow-water flatfish ⁵ | W | 26,360 | 4,500 | n/a
| C | 29,873 | 13,000 | n/a
| WYK | 3,333 | 3,333 | n/a
| SEO | 1,423 | 1,423 | n/a
| Total | 60,989 | 22,256 | 74,364
Deep-water flatfish ⁶ | W | 747 | 747 | n/a
| C | 7,405 | 7,405 | n/a
| WYK | 1,066 | 1,066 | n/a
| SEO | 575 | 575 | n/a
| Total | 9,793 | 9,793 | 12,367
Rex sole | W | 988 | 988 | n/a
| C | 6,506 | 6,506 | n/a
| WYK | 503 | 503 | n/a
| SEO | 830 | 830 | n/a
| Total | 8,827 | 8,827 | 11,535
Arrowtooth flounder | W | 29,843 | 8,000 | n/a
| C | 162,591 | 30,000 | n/a
| WYK | 14,757 | 2,500 | n/a
| SEO | 12,082 | 2,500 | n/a
| Total | 219,273 | 43,000 | 258,397
Flathead sole | W | 13,342 | 2,000 | n/a
| C | 30,021 | 5,000 | n/a
| WYK | 3,622 | 3,622 | n/a
| SEO | 667 | 667 | n/a
| Total | 47,652 | 11,289 | 59,349
Pacific ocean perch ⁷ | W | 3,710 | 3,710 | 4,405
| C | 8,239 | 8,239 | 9,782
| WYK | 1,107 | 1,107 | n/a
| SEO | 2,042 | 2,042 | n/a
| E (WYK and SEO) (subtotal) | 3,149 | 3,149 | 3,738
| Total | 15,098 | 15,098 | 17,925
Northern rockfish ⁸,⁹ | W | 1,965 | 1,965 | n/a
| C | 2,208 | 2,208 | n/a
| E | 0 | 0 | n/a
| Total | 4,173 | 4,173 | 4,979
Rougheye rockfish ¹⁰ | W | 126 | 126 | n/a
| C | 842 | 842 | n/a
| E | 329 | 329 | n/a
| Total | 1,297 | 1,297 | 1,562
Shortraker rockfish ¹¹ | W | 120 | 120 | n/a
| C | 315 | 315 | n/a
| E | 463 | 463 | n/a
| Total | 898 | 898 | 1,197
Other rockfish ⁹,¹² | W | 357 | 357 | n/a
| C | 569 | 569 | n/a
| WYK | 604 | 604 | n/a
| SEO | 2,767 | 200 | n/a
| Total | 4,297 | 1,730 | 5,624
Pelagic shelf rockfish ¹³ | W | 765 | 765 | n/a
| C | 3,179 | 3,179 | n/a
| WYK | 219 | 219 | n/a
| SEO | 302 | 302 | n/a
| Total | 4,465 | 4,465 | 5,420
Demersal shelf rockfish ¹⁴ | SEO | 362 | 362 | 580
Thornyhead rockfish | W | 267 | 267 | n/a
| C | 860 | 860 | n/a
| E | 783 | 783 | n/a
| Total | 1,910 | 1,910 | 2,540
Atka mackerel | GW | 4,700 | 2,000 | 6,200
Big skate ¹⁵ | W | 632 | 632 | n/a
| C | 2,065 | 2,065 | n/a
| E | 633 | 633 | n/a
| Total | 3,330 | 3,330 | 4,439
Longnose skate ¹⁶ | W | 78 | 78 | n/a
| C | 2,041 | 2,041 | n/a
| E | 768 | 768 | n/a
| Total | 2,887 | 2,887 | 3,849
Other skates ¹⁷ | GW | 2,104 | 2,104 | 2,806
Other species ¹⁸ | GW | 6,540 | 4,500 | 8,720
Total |  | 562,762 | 284,688 | 722,134
¹ Regulatory areas and districts are defined at § 679.2. (W = Western Gulf of Alaska; C = Central Gulf of Alaska; E = Eastern Gulf of Alaska; WYK = West Yakutat District; SEO = Southeast Outside District; GW = Gulf-wide).
² Pollock is apportioned in the Western/Central Regulatory Areas among three statistical areas. During the A season, the apportionment is based on an adjusted estimate of the relative distribution of pollock biomass of approximately 32%, 43%, and 25% in Statistical Areas 610, 620, and 630, respectively. During the B season, the apportionment is based on the relative distribution of pollock biomass at 32%, 54%, and 14% in Statistical Areas 610, 620, and 630, respectively. During the C and D seasons, the apportionment is based on the relative distribution of pollock biomass at 43%, 21%, and 35% in Statistical Areas 610, 620, and 630, respectively. Table 4 lists the proposed 2010 and 2011 pollock seasonal apportionments. In the West Yakutat and Southeast Outside Districts of the Eastern Regulatory Area, pollock is not divided into seasonal allowances.
³ The annual Pacific cod TAC is apportioned 60% to the A season and 40% to the B season in the Western and Central Regulatory Areas of the GOA. Pacific cod is allocated 90% for processing by the inshore component and 10% for processing by the offshore component. Table 5 lists the proposed 2010 and 2011 Pacific cod seasonal apportionments.
⁴ Sablefish is allocated to trawl and hook-and-line gears for 2010 and to trawl gear in 2011. Tables 2 and 3 list the proposed 2010 and 2011 sablefish TACs.
⁵ “Shallow-water flatfish” means flatfish not including “deep-water flatfish,” flathead sole, rex sole, or arrowtooth flounder.
⁶ “Deep-water flatfish” means Dover sole, Greenland turbot, and deepsea sole.
⁷ “Pacific ocean perch” means Sebastes alutus.
⁸ “Northern rockfish” means Sebastes polyspinous.
⁹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinous.
¹⁰ “Rougheye rockfish” means Sebastes aleutianus (rougheye) and Sebastes melanostictus (blackspotted).
¹¹ “Shortraker rockfish” means Sebastes borealis.
¹² “Other rockfish” in the Western and Central Regulatory Areas and in the West Yakutat District means slope rockfish and demersal shelf rockfish. The category “other rockfish” in the SEO District means slope rockfish.
¹³ “Pelagic shelf rockfish” means Sebastes ciliatus (dark), S. variabilis (dusky), S. entomelas (widow), and S. flavidus (yellowtail).
¹⁴ “Demersal shelf rockfish” means Sebastes pinniger (canary), S. nebulosus (china), S. caurinus (copper), S. maliger (quillback), S. helvomaculatus (rosethorn), S. nigrocinctus (tiger), and S. ruberrimus (yelloweye).
¹⁵ “Big skate” means Raja binoculata.
¹⁶ “Longnose skate” means Raja rhina.
¹⁷ “Other skates” means Bathyraja spp.
¹⁸ “Other species” means sculpins, sharks, squid, and octopus.

Proposed Apportionment of Reserves

Section 679.20(b)(2) requires that 20 percent of each TAC for pollock, Pacific cod, flatfish, and the “other species” category be set aside in reserves for possible apportionment at a later date during the fishing year. In 2009, NMFS apportioned all the reserves in the final harvest specifications (74 FR 7340, February 17, 2009). For 2010 and 2011, NMFS proposes to reapportion all the reserves for pollock, Pacific cod, flatfish, and “other species.” Table 1 reflects the proposed apportionment of reserve amounts for these species and species groups.

Proposed Allocations of the Sablefish TAC Amounts to Vessels Using Hook-and-Line and Trawl Gear

Sections 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear and 5 percent is allocated to trawl gear. The trawl gear allocation in the Eastern GOA may only be used to support incidental catch of sablefish in directed fisheries for other target species (§ 679.20(a)(4)(i)). In recognition of the trawl ban in the SEO District of the Eastern Regulatory Area, the Council recommended and NMFS proposes the allocation of 5 percent of the combined Eastern Regulatory Area sablefish TAC to trawl gear in the WYK District and the allocation of the remainder of the WYK sablefish TAC be available to vessels using hook-and-line gear. As a result, NMFS proposes to allocate 100 percent of the sablefish TAC in the SEO District to vessels using hook-and-line gear. This recommendation results in a proposed 2010 allocation of 209 mt to trawl gear and 3,960 mt to hook-and-line gear. Table 2 lists the allocations of the proposed 2010 sablefish TACs to hook-and-line and trawl gear. Table 3 lists the allocations of the proposed 2011 sablefish TACs to trawl gear. The Council recommended that only a trawl sablefish TAC be established for two years so that incidental catch of sablefish by trawl gear could commence in January in the second year of the harvest specifications. However, since there is an annual assessment for sablefish and the final annual specifications are expected to be published before the Individual Fishing Quota (IFQ) season begins, typically early March, the industry and Council recommended that the sablefish TAC for the IFQ season be set on an annual basis so that the best and most recent scientific information could be considered in recommending the ABCs and TACs. Since sablefish is on bycatch status for trawl gear from January 1, it is not likely that the sablefish allocation to trawl gear would be reached prior to the effective date of the final harvest specifications.

Table 2—Proposed 2010 Sablefish TAC Amounts in the Gulf of Alaska and Allocations to Hook-and-Line and Trawl Gear
[Values are rounded to the nearest metric ton]
Area/District | TAC | Hook-and-line allocation | Trawl allocation
Western | 1,523 | 1,218 | 305
Central | 4,625 | 3,700 | 925
West Yakutat ¹ | 1,645 | 1,436 | 209
Southeast Outside | 2,544 | 2,544 | 0
Total | 10,337 | 8,898 | 1,439
¹ Represents an allocation of 5 percent of the combined Eastern Regulatory Area sablefish TAC to trawl gear in the WYK District.

Table 3—Proposed 2011 Sablefish TAC Amounts in the Gulf of Alaska and Allocation to Trawl Gear ¹
[Values are rounded to the nearest metric ton]
Area/District | TAC | Hook-and-line allocation | Trawl allocation
Western | 1,523 | n/a | 305
Central | 4,625 | n/a | 925
West Yakutat ² | 1,645 | n/a | 209
Southeast Outside | 2,544 | n/a | 0
Total | 10,337 | n/a | 1,439
¹ The Council recommended that harvest specifications for the hook-and-line gear sablefish Individual Fishing Quota fisheries be limited to 1 year.
² Represents an allocation of 5 percent of the combined Eastern Regulatory Area sablefish TAC to trawl gear in the WYK District.

Proposed Apportionments of Pollock TAC Among Seasons and Regulatory Areas, and Allocations for Processing by Inshore and Offshore Components

In the GOA, pollock is apportioned by season and area, and is further divided between inshore and offshore processing components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 through March 10, March 10 through May 31, August 25 through October 1, and October 1 through November 1, respectively.

Pollock TACs in the Western and Central Regulatory Areas of the GOA are apportioned among statistical areas 610, 620, and 630, pursuant to § 679.20(a)(5)(iv)(A). In the A and B seasons, the apportionments are in proportion to the distribution of pollock biomass based on the four most recent NMFS winter surveys. In the C and D seasons, the apportionments are in proportion to the distribution of pollock biomass based on the four most recent NMFS summer surveys. For 2010 and 2011, the Council recommends, and NMFS proposes, averaging the winter and summer distribution of pollock in the Central Regulatory Area for the A season. The average is intended to reflect the distribution of pollock as indicated by the historic performance of the fishery during the A season. Within any fishing year, the amount by which a seasonal allowance is underharvested or overharvested may be added to, or subtracted from, subsequent seasonal allowances in a manner to be determined by the Regional Administrator (§ 679.20(a)(5)(iv)(B). The rollover amount is limited to 20 percent of the unharvested seasonal apportionment for the statistical area. Any unharvested pollock above the 20 percent limit could be further distributed to the other statistical areas, in proportion to the estimated biomass in the subsequent season in those statistical areas (§ 679.20(a)(5)(iv)(B)). The proposed pollock TACs in the WYK of 1,929 mt and SEO District of 8,280 mt for 2010 and 2011 are not allocated by season.

Section 679.20(a)(6)(i) requires the allocation of 100 percent of the pollock TAC in all regulatory areas (and for each associated seasonal allowance) to vessels catching pollock for processing by the inshore component after subtraction of amounts that are projected by the Regional Administrator to be caught by, or delivered to, the offshore component incidental to directed fishing for other groundfish species. Pursuant to § 679.20(a)(6)(i), the amount of pollock available for vessels harvesting pollock for processing by the offshore component is that amount actually taken as incidental catch during directed fishing for groundfish species other than pollock, up to the maximum retainable amounts allowed under § 679.20(e) and (f). At this time, these incidental catch amounts are unknown and will be determined during the fishing year.

Table 4 lists the proposed 2010 and 2011 seasonal biomass distribution of pollock in the Western and Central Regulatory Areas, area apportionments, and seasonal allowances. The amounts of pollock for processing by the inshore and offshore components are not shown.

Table 4—Proposed 2010 and 2011 Distribution of Pollock in the Central and Western Regulatory Areas of the Gulf of Alaska; Seasonal Biomass Distribution, Area Apportionments; and Seasonal Allowances of Annual TAC
[Values are rounded to the nearest metric ton]
Season | Shumagin (Area 610) | Chirikof (Area 620) | Kodiak (Area 630) | Total ¹
A (Jan 20-Mar 10) | 5,132 (32.01%) | 6,927 (43.21%) | 3,972 (24.78%) | 16,031 (100%)
B (Mar 10-May 31) | 5,131 (32.01%) | 8,591 (53.59%) | 2,308 (14.40%) | 16,030 (100%)
C (Aug 25-Oct 1) | 6,968 (43.47%) | 3,428 (21.38%) | 5,634 (35.15%) | 16,030 (100%)
D (Oct 1-Nov1) | 6,968 (43.47%) | 3,428 (21.38%) | 5,634 (35.15%) | 16,030 (100%)
Annual Total | 24,199 | 22,374 | 17,548 | 64,121
¹ The WYK and SEO District pollock TACs are not allocated by season and are not included in the total pollock TACs shown in this table.

Proposed Seasonal Apportionments of Pacific Cod TAC and Allocations for Processing of Pacific Cod TAC Between Inshore and Offshore Components

Pacific cod fishing is divided into two seasons in the Western and Central Regulatory Areas of the GOA. For hook-and-line, pot, and jig gear, the A season is January 1 through June 10, and the B season is September 1 through December 31 (§ 679.23(d)(3)(i)). For trawl gear, the A season is January 20 through June 10, and the B season is September 1 through November 1 (§ 679.23(d)(3)(ii)). After subtraction of an incidental catch allowance, 60 percent and 40 percent of the remaining annual TAC will be available for harvest during the A and B seasons, respectively, and will be apportioned between the inshore and offshore processing components, as provided in § 679.20(a)(6)(ii). Between the A and the B seasons, directed fishing for Pacific cod is closed, and fishermen participating in other directed fisheries must retain Pacific cod up to the maximum retainable amounts allowed under § 679.20(e) and (f). Under § 679.20(a)(12)(ii), any overage or underage of the Pacific cod allowance from the A season may be subtracted from or added to the subsequent B season allowance by the Regional Administrator.

Section 679.20(a)(6)(ii) requires the allocation of the Pacific cod TAC apportionment in all regulatory areas between vessels catching Pacific cod for processing by the inshore and offshore components. Ninety percent of the Pacific cod TAC in each regulatory area is allocated to vessels catching Pacific cod for processing by the inshore component. The remaining 10 percent of the TAC is allocated to vessels catching Pacific cod for processing by the offshore component. Table 5 lists the proposed 2010 and 2011 seasonal apportionments and allocations of the Pacific cod TAC amounts.

Table 5—Proposed 2010 and 2011 Seasonal Apportionments and Allocations of Pacific Cod TAC Amounts in the Gulf of Alaska and Allocations for Processing by the Inshore and Offshore Components
[Values are rounded to the nearest metric ton]
Regulatory area | Season | TAC | Component allocation: Inshore (90%) | Component allocation: Offshore (10%)
Western | Annual | 23,254 | 20,929 | 2,325
| A season (60%) | 13,952 | 12,557 | 1,395
| B season (40%) | 9,302 | 8,371 | 930
Central | Annual | 33,986 | 30,587 | 3,399
| A season (60%) | 20,392 | 18,352 | 2,039
| B season (40%) | 13,594 | 12,235 | 1,359
Eastern | Annual | 2,862 | 2,576 | 286
| Total | 60,102 | 54,092 | 6,010

Proposed Apportionments to the Central GOA Rockfish Program

Section 679.81(a)(1) and (2) requires the allocation of the primary rockfish species TACs in the Central Regulatory Area, after deducting incidental catch needs in other directed groundfish fisheries, to participants in the Central GOA Rockfish Program (Rockfish Program). Five percent (2.5 percent to trawl gear and 2.5 percent to fixed gear) of the remaining proposed TACs for Pacific ocean perch, northern rockfish, and pelagic shelf rockfish in the Central Regulatory Area are allocated to the entry level rockfish fishery and 95 percent of the remaining TAC for those primary rockfish species to those vessels eligible to participate in the Rockfish Program. NMFS proposes 2010 and 2011 incidental catch amounts of 100 mt for northern rockfish, 100 mt for pelagic shelf rockfish, and 500 mt for Pacific ocean perch for other directed groundfish fisheries in the Central Regulatory Area. These proposed amounts are based on recent average incidental catch in the Central Regulatory Area by other groundfish fisheries.

Section 679.83(a)(1)(i) requires that allocations to the trawl entry level fishery must be made first from the allocation of Pacific ocean perch available to the rockfish entry level fishery. If the amount of Pacific ocean perch available for allocation is less than the total allocation allowable for trawl catcher vessels in the rockfish entry level fishery, then northern rockfish and pelagic shelf rockfish must be allocated to trawl catcher vessels. Allocations of Pacific ocean perch, northern rockfish, and pelagic shelf rockfish to longline gear vessels must be made after the allocations to trawl gear.

Table 6 lists the proposed 2010 and 2011 allocations of rockfish in the Central GOA to trawl and longline gear in the entry level rockfish fishery. Allocations of primary rockfish species TACs among participants in the Rockfish Program are not included in the proposed harvest specifications because applications for catcher/processor and catcher vessel cooperatives are due to NMFS on March 1 of each calendar year, thereby preventing NMFS from calculating proposed 2010 allocations. NMFS will post these allocations on the Alaska Region Web site at http://alaskafisheries.noaa.gov/sustainablefisheries/goarat/default.htm when they become available in March 2010.

Table 6—Proposed 2010 and 2011 Allocations of Rockfish in the Central Gulf of Alaska to Trawl and Longline Gear ¹ in the Entry Level Rockfish Fishery
[Values are rounded to the nearest mt]
Species | Proposed TAC | Incidental catch allowance | TAC minus ICA | 5% TAC | 2.5% TAC | Entry level trawl allocation | Entry level longline allocation
Pacific ocean perch | 8,239 | 500 | 7,739 | 387 | 193 | 323 | 64
Northern rockfish | 2,208 | 100 | 2,108 | 105 | 53 | 0 | 105
Pelagic shelf rockfish | 3,179 | 100 | 3,079 | 154 | 77 | 0 | 154
Total | 13,626 | 700 | 12,926 | 646 | 323 | 323 | 323
¹ Longline gear includes jig and hook-and-line gear.

Proposed Halibut Prohibited Species Catch (PSC) Limits

Section 679.21(d) establishes annual halibut PSC limit apportionments to trawl and hook-and-line gear and permits the establishment of apportionments for pot gear. In October 2009, the Council recommended that NMFS maintain the 2009 halibut PSC limits of 2,000 mt for the trawl fisheries and 300 mt for the hook-and-line fisheries for 2010 and 2011. Ten mt of the hook-and-line limit is further allocated to the demersal shelf rockfish (DSR) fishery in the SEO District. The DSR fishery is defined at § 679.21(d)(4)(iii)(A). This fishery has been apportioned 10 mt in recognition of its small scale harvests. Most vessels in the DSR fishery are less than 60 ft (18.3 m) length overall making them exempt from observer coverage. Therefore, observer data are not available to verify actual bycatch amounts. NMFS assumes the halibut bycatch in the DSR fishery is low because of the short soak times for the gear and short duration of the fishery. Also, the DSR fishery occurs in the winter when less overlap occurs in the distribution of DSR and halibut. Finally, much of the DSR TAC is not available to the commercial DSR fishery. The Alaska Department of Fish and Game sets the quota for the commercial DSR fishery after estimates of incidental catch in all fisheries (including halibut) and anticipated recreational harvest have been deducted from the DSR TAC. Of the 362 mt TAC for DSR in 2009, 115 mt were available for the commercial fishery, of which 76 mt were harvested.

Section 679.21(d)(4) authorizes the exemption of specified non-trawl fisheries from the halibut PSC limit. As in past years, NMFS, after consultation with the Council, proposes to exempt pot gear, jig gear, and the sablefish IFQ hook-and-line gear fishery categories from the non-trawl halibut PSC limit for 2010 and 2011. The Council and NMFS recommend these exemptions because (1) the pot gear fisheries have low halibut bycatch mortality averaging 19 mt annually from 2001 through 2008 (and 7 mt in 2009 through 11/7/2009); (2) the halibut and sablefish IFQ fisheries have low halibut bycatch mortality because the IFQ program requires retention of legal-sized halibut by vessels using hook-and-line gear if a halibut IFQ permit holder is aboard and is holding unused halibut IFQ; and (3) halibut mortality for the jig gear fisheries is assumed to be negligible. Halibut mortality is assumed to be negligible in the jig gear fisheries given the low amount of groundfish harvested by jig gear averaging 268 mt annually from 2001 through 2008 (and 208 mt through 10/3/2009), the selective nature of jig gear, and the likelihood of high survival rates of halibut caught and released by jig gear.

Section 679.21(d)(5) provides NMFS the authority to seasonally apportion the halibut PSC limits after consultation with the Council. The FMP and regulations require that the Council and NMFS consider the following information in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

The final 2009 and 2010 harvest specifications (74 FR 7333, February 17, 2009) summarized the Council's and NMFS's findings with respect to each of these FMP considerations. The Council's and NMFS's findings for 2010 and 2011 are unchanged from 2009. Table 7 lists the proposed 2010 and 2011 Pacific halibut PSC limits, allowances, and apportionments. Section 679.21(d)(5)(iii) and (iv), respectively, specify that any underages or overages of a seasonal apportionment of a PSC limit will be added to or removed from the next respective seasonal apportionment within the fishing year.

Table 7—Proposed 2010 and 2011 Pacific Halibut PSC Limits, Allowances, and Apportionments
[Values are in metric tons]
Trawl gear: Season | Trawl gear: Percent | Trawl gear: Amount | Hook-and-line gear¹: Other than DSR: Season | Hook-and-line gear¹: Other than DSR: Percent | Hook-and-line gear¹: Other than DSR: Amount | Hook-and-line gear¹: DSR: Season | Hook-and-line gear¹: DSR: Amount
January 20-April 1 | 27.5% | 550 | January 1-June 10 | 86% | 250 | January 1-December 31 | 10
April 1-July 1 | 20% | 400 | June 10-September 1 | 2% | 5 |  |
July 1-September 1 | 30% | 600 | September 1-December 31 | 12% | 35 |  |
September 1-October 1 | 7.5% | 150 |  |  |  |  |
October 1-December 31 | 15% | 300 |  |  |  |  |
Total |  | 2,000 |  |  | 290 |  | 10
¹ The Pacific halibut PSC limit for hook-and-line gear is allocated to the demersal shelf rockfish (DSR) fishery and fisheries other than DSR. The hook-and-line sablefish fishery is exempt from halibut PSC limits.

Section 679.21(d)(3)(ii) authorizes further apportionment of the trawl halibut PSC limit to trawl fishery categories. The annual apportionments are based on each category's proportional share of the anticipated halibut bycatch mortality during a fishing year and optimization of the total amount of groundfish harvest under the halibut PSC limit. The fishery categories for the trawl halibut PSC limits are (1) a deep-water species category, comprised of sablefish, rockfish, deep-water flatfish, rex sole, and arrowtooth flounder; and (2) a shallow-water species category, comprised of pollock, Pacific cod, shallow-water flatfish, flathead sole, Atka mackerel, skates, and “other species” (§ 679.21(d)(3)(iii)). Table 8 lists the proposed 2010 and 2011 seasonal apportionments of Pacific halibut PSC trawl limits as apportioned between the deep-water and shallow-water species categories. Based on public comment and information contained in the final 2009 SAFE report, the Council may recommend or NMFS may make changes to the seasonal, gear-type, or fishery category apportionments of halibut PSC limits for the final 2010 and 2011 harvest specifications.

Table 8—Proposed 2010 and 2011 Seasonal Apportionments of the Pacific Halibut PSC Limit Apportioned Between the Trawl Gear Shallow-Water Species and Deep-Water Species Categories
[Values are in metric tons]
Season | Shallow-water | Deep-water¹ | Total
January 20-April 1 | 450 | 100 | 550
April 1-July 1 | 100 | 300 | 400
July 1-September 1 | 200 | 400 | 600
September 1-October 1 | 150 | Any remainder | 150
Subtotal January 20-October 1 | 900 | 800 | 1,700
October 1-December 31 ² |  |  | 300
Total |  |  | 2,000
¹ Vessels participating in cooperatives in the Central Gulf of Alaska Rockfish Program will receive a portion of the third season (July 1-September 1) deep-water category halibut PSC apportionment. At this time, this amount is not known but will be posted later on the Alaska Region Web site at http://alaskafisheries.noaa.gov when it becomes available.
² There is no apportionment between shallow-water and deep-water trawl fishery categories during the fifth season (October 1 through December 31).

Estimated Halibut Bycatch in Prior Years

The best available information on estimated halibut bycatch is data collected by observers during 2009. The calculated halibut bycatch mortality by trawl, hook-and-line, and pot gears through November 7, 2009, is 1,797 mt, 266 mt, and 7 mt, respectively, for a total halibut mortality of 2,070 mt. Halibut bycatch restrictions seasonally constrained trawl gear fisheries during the 2009 fishing year. Table 9 displays the closure dates for fisheries that resulted from the attainment of seasonal or annual halibut PSC limits. The amount of groundfish that trawl gear might have harvested if halibut PSC limits had not restricted some 2009 GOA groundfish fisheries is unknown.

Table 9—Fishery Closures Due to Attainment of Pacific Halibut PSC Limits
Fishery category | Opening date | Closure date | Federal Register citation
Trawl Deep-water, season 1 | January 20, 2009 | March 3, 2009 | 74 FR 9964, March 9, 2009
Trawl Deep-water, season 2 | April 1, 2009 | April 23, 2009 | 74 FR 19459, April 29, 2009
Trawl Shallow-water, season 4 | September 1, 2009 | September 2, 2009 | 74 FR 45378, September 2, 2009
¹ With the exception of vessels participating in the Central GOA Rockfish Program.

Expected Changes in Groundfish Stocks and Catch

Proposed 2010 and 2011 ABCs for pollock, Pacific cod, deep-water flatfish, and flathead sole are higher than those established for 2009, while the proposed 2010 and 2011 ABCs for arrowtooth flounder, rex sole, sablefish, Pacific ocean perch, northern rockfish, and pelagic shelf rockfish are lower than those established for 2009. For the remaining target species, the Council recommended that ABC levels remain unchanged from 2009. More information on these changes is included in the 2008 SAFE report (see ADDRESSES) and will be updated with the 2009 SAFE report, which will be available for Council approval at its December 2009 meeting.

In the GOA, the total proposed 2010 and 2011 TAC amounts are 284,688 mt, an increase of 17 percent from the 2009 TAC total of 242,727 mt. Table 10 compares the final 2009 TACs to the proposed 2010 and 2011 TACs.

Table 10—Comparison of Final 2009 and Proposed 2010 and 2011 Total Allowable Catch (TAC) Amounts in the Gulf of Alaska
[Values are in metric tons]
Species | Final 2009 TACs | Proposed 2010 and 2011 TACs
Pollock | 49,900 | 74,330
Pacific cod | 41,807 | 60,102
Sablefish | 11,160 | 10,337
Shallow water flatfish | 22,256 | 22,256
Deep-water flatfish | 9,168 | 9,793
Rex sole | 8,996 | 8,827
Arrowtooth flounder | 43,000 | 43,000
Flathead sole | 11,181 | 11,289
Pacific ocean perch | 15,111 | 15,098
Northern rockfish | 4,362 | 4,173
Rougheye rockfish | 1,284 | 1,297
Shortraker rockfish | 898 | 898
Other rockfish | 1,730 | 1,730
Pelagic shelf rockfish | 4,781 | 4,465
Demersal shelf rockfish | 362 | 362
Thornyhead rockfish | 1,910 | 1,910
Atka mackerel | 2,000 | 2,000
Big skates | 3,330 | 3,330
Longnose skates | 2,887 | 2,887
Other skates | 2,104 | 2,104
Other species | 4,500 | 4,500
Total | 242,727 | 284,688

Current Estimates of Halibut Biomass and Stock Condition

The most recent halibut stock assessment was developed by the International Pacific Halibut Commission (IPHC) staff in December 2008 for the 2009 commercial fishery; this assessment was considered by the IPHC at its annual January 2009 meeting. Information from ongoing passive integrated transponder (PIT) tag recoveries, as well as inconsistencies in the traditional closed-area stock assessments for some areas, has prompted the IPHC to reexamine the stock assessment framework and corresponding harvest policy. Historically, the IPHC assumed that once the halibut reached legal commercial size there was little movement between regulatory areas. More recently, PIT tag recoveries indicate greater movement between regulatory areas than previously believed. In response to this new information, IPHC staff developed a coast-wide assessment based on a single stock. Based on the updated assessment, the IPHC recommends a coast-wide harvest rate of 20 percent of the exploitable biomass overall, but a lower harvest rate of 15 percent for Areas 4B, 4C, 4D, and 4E. The current estimate of coast-wide (United States and Canada) exploitable biomass for 2009 is 147,419 mt, down from 163,749 mt estimated for 2008. Virtually all the decrease is due to lower survey and commercial catch rates of legal-sized halibut. Projections based on the currently estimated age compositions suggest that the exploitable and female spawning biomass will increase over the next several years as a sequence of strong year classes recruit to the legal-sized component of the population. The female spawning biomass is estimated to be 14,288 mt for 2009, an increase of 3 percent from 2008, and approximately 35 percent of the estimated unfished spawning biomass of 398,258 mt.

The halibut resource is fully utilized. Recent catches, over the last 15 years (1994 through 2008) in the commercial halibut fisheries in Alaska have averaged 33,338 mt round weight. In January 2009, the IPHC approved Alaska commercial catch limits totaling 27,518 mt round weight for 2009, a 9-percent decrease from 30,349 mt in 2008. Through November 12, 2009, commercial hook-and-line harvests of halibut off Alaska totaled 21,966 mt round weight.

Additional information on the Pacific halibut stock assessment may be found in the IPHC's 2008 Pacific halibut stock assessment (December 2008), available on the IPHC Web site at http://www.iphc.washington.edu. The IPHC considered the 2008 Pacific halibut assessment for 2009 at its January 2009 annual meeting when the IPHC set the 2009 commercial halibut fishery quotas. The IPHC will consider the 2009 Pacific halibut assessment for 2010 at its January 2010 annual meeting when it sets the 2010 commercial halibut fishery quotas.

Other Factors

The IPHC will adjust the allowable commercial catch of halibut to account for the overall halibut PSC mortality limit established for groundfish fisheries. The 2010 and 2011 groundfish fisheries are expected to use the entire proposed annual halibut PSC limit of 2,300 mt. The allowable directed commercial catch is determined by first accounting for recreational and subsistence catch, waste, and bycatch mortality, and then providing the remainder to the directed fishery. Groundfish fishing is not expected to adversely affect the halibut stocks. Methods available for reducing halibut bycatch include (1) publication of individual vessel bycatch rates on the NMFS Alaska Region Web site at http://alaskafisheries.noaa.gov, (2) modifications to gear, (3) changes in groundfish fishing seasons, (4) individual transferable quota programs, and (5) time/area closures.

Reductions in groundfish TAC amounts provide no incentive for fishermen to reduce bycatch rates. Costs that would be imposed on fishermen as a result of reducing TAC amounts depend on the species and amounts of groundfish forgone.

The definition of “Authorized fishing gear” at § 679.2 specifies requirements for biodegradable panels and tunnel openings for groundfish pots to reduce halibut bycatch. Under this definition, groundfish pots must comply with gear specification requirements (§ 679.2(15)). Compliance with these requirements reduce halibut bycatch and mortality rates in groundfish pot fisheries. As a result, pot gear exemptions from PSC limits are justified.

The definitions at § 679.2 for “Authorized fishing gear,” defines “pelagic trawl gear” in a manner intended to reduce bycatch of halibut by displacing fishing effort off the bottom of the sea floor when certain halibut bycatch levels are reached during the fishing year (§ 679.2(14)). The definition provides standards for physical conformation and performance of the trawl gear in terms of crab bycatch (§ 679.7(a)(14)). Furthermore, all hook-and-line vessel operators are required to employ careful release measures when handling halibut bycatch (§ 679.7(a)(13)). These measures are intended to reduce handling mortality, thereby lowering overall halibut bycatch mortality in the groundfish fisheries, and to increase the amount of groundfish harvested under the available halibut mortality bycatch limits.

NMFS and the Council will review the methods available for reducing halibut bycatch listed here to determine their effectiveness and will initiate changes, as necessary, in response to this review or to public testimony and comment.

Halibut Discard Mortality Rates

To monitor halibut bycatch mortality allowances and apportionments, the Regional Administrator uses observed halibut bycatch rates, discard mortality rates (DMR), and estimates of groundfish catch to project when a fishery's halibut bycatch mortality allowance or seasonal apportionment is reached. The DMRs are based on the best information available, including information contained in the annual SAFE report.

NMFS proposes the Council's recommendation that the halibut DMRs developed and recommended by the IPHC for the 2009 GOA groundfish fisheries be used for monitoring the proposed 2010 and 2011 halibut bycatch allowances (see Table 11). The IPHC developed the DMRs for the 2009 GOA groundfish fisheries using the 10-year mean DMRs for those fisheries. Long-term average DMRs were not available for some fisheries, so rates from the most recent years were used. For the “other species” and skate fisheries, where insufficient mortality data are available, the mortality rate of halibut caught in the Pacific cod fishery for that gear type was recommended as a default rate. The IPHC will analyze observer data annually and recommend changes to the DMRs when a fishery DMR shows large variation from the mean. A copy of the document justifying these DMRs is available from the Council (see ADDRESSES) and the DMRs are discussed in the Economic Status Report of the final 2008 SAFE report, dated November 2008. Table 11 lists the proposed 2010 and 2011 DMRs.

The proposed DMRs listed in Table 11 are subject to change pending the results of an updated analysis on halibut DMRs in the groundfish fisheries that IPHC staff is scheduled to present to the Council at its December 2009 meeting.

Table 11—Proposed 2010 and 2011 Halibut Discard Mortality Rates for Vessels Fishing in the Gulf of Alaska
[Values are oercent of halibut assumed to be dead]
Gear | Target fishery | Mortality rate (%)
Hook-and-line | Other species | 14
| Skates | 14
| Pacific cod | 14
| Rockfish | 10
Trawl | Arrowtooth flounder | 69
| Atka mackerel | 60
| Deep-water flatfish | 53
| Flathead sole | 61
| Non-pelagic pollock | 59
| Other species | 63
| Skates | 63
| Pacific cod | 63
| Pelagic pollock | 76
| Rex sole | 63
| Rockfish | 67
| Sablefish | 65
| Shallow-water flatfish | 71
Pot | Other species | 16
| Skates | 16
| Pacific cod | 16

American Fisheries Act (AFA) Catcher/Processor and Catcher Vessel Groundfish Harvest and PSC Limits

Section 679.64 establishes groundfish harvesting and processing sideboard limits on AFA catcher/processors and catcher vessels in the GOA. These sideboard limits are necessary to protect the interests of fishermen and processors who do not directly benefit from the AFA from expansion in their fisheries by those fishermen and processors who receive exclusive harvesting and processing privileges under the AFA. Section 679.7(k)(1)(ii) prohibits listed AFA catcher/processors from harvesting any species of fish in the GOA. Additionally, § 679.7(k)(1)(iv) prohibits listed AFA catcher/processors from processing any pollock in the GOA and any groundfish harvested in Statistical Area 630 of the GOA.

AFA catcher vessels that are less than 125 ft (38.1 m) length overall, have annual landings of pollock in the Bering Sea and Aleutian Islands less than 5,100 mt, and have made at least 40 GOA groundfish landings from 1995 through 1997 are exempt from GOA sideboard limits under § 679.64(b)(2)(ii). Sideboard limits for non-exempt AFA catcher vessels operating in the GOA are based on their traditional harvest levels in groundfish fisheries covered by the FMP. Section 679.64(b)(3)(iii) establishes the GOA groundfish sideboard limits based on the retained catch of non-exempt AFA catcher vessels of each sideboard species from 1995 through 1997 divided by the TAC for that species over the same period. Table 12 lists the proposed 2010 and 2011 groundfish sideboard limits for non-exempt AFA catcher vessels. All targeted or incidental catch of sideboard species made by non-exempt AFA catcher vessels will be deducted from the sideboard limits in Table 12.

Table 12—Proposed 2010 and 2011 GOA Non-Exempt American Fisheries Act Catcher Vessel (CV) Groundfish Harvest Sideboard Limits
[Values are rounded to the nearest metric ton]
Species | Apportionments by season/gear | Area/component | Ratio of 1995-1997 non-exempt AFA CV catch to 1995-1997 TAC | Proposed 2010 and 2011 TACs | Proposed 2010 and 2011 non-exempt AFA CV sideboard limit
Pollock | A Season: January 20-March 10 | Shumagin (610) | 0.6047 | 5,132 | 3,103
|  | Chirikof (620) | 0.1167 | 6,927 | 808
|  | Kodiak (630) | 0.2028 | 3,972 | 806
| B Season: March 10-May 31 | Shumagin (610) | 0.6047 | 5,131 | 3,103
|  | Chirikof (620) | 0.1167 | 8,591 | 1,003
|  | Kodiak (630) | 0.2028 | 2,308 | 468
| C Season: August 25-October 1 | Shumagin (610) | 0.6047 | 6,968 | 4,214
|  | Chirikof (620) | 0.1167 | 3,428 | 400
|  | Kodiak (630) | 0.2028 | 5,634 | 1,143
| D Season: October 1-November 1 | Shumagin (610) | 0.6047 | 6,968 | 4,214
|  | Chirikof (620) | 0.1167 | 3,428 | 400
|  | Kodiak (630) | 0.2028 | 5,634 | 1,143
| Annual | WYK (640) | 0.3495 | 1,929 | 674
|  | SEO (650) | 0.3495 | 8,280 | 2,894
Pacific cod | A Season ¹: January 1-June 10 | W inshore | 0.1365 | 12,557 | 1,714
|  | W offshore | 0.1026 | 1,395 | 143
|  | C inshore | 0.0689 | 18,352 | 1,264
|  | C offshore | 0.0721 | 2,039 | 147
| B Season ²: September 1-December 31 | W inshore | 0.1365 | 8,371 | 1,143
|  | W offshore | 0.1026 | 930 | 95
|  | C inshore | 0.0689 | 12,235 | 843
|  | C offshore | 0.0721 | 1,359 | 98
| Annual | E inshore | 0.0079 | 2,576 | 20
|  | E offshore | 0.0078 | 286 | 2
Sablefish | Annual, trawl gear | W | 0.0000 | 305 | 0
|  | C | 0.0642 | 925 | 59
|  | E | 0.0433 | 209 | 9
Flatfish, shallow-water | Annual | W | 0.0156 | 4,500 | 70
|  | C | 0.0587 | 13,000 | 763
|  | E | 0.0126 | 4,756 | 60
Flatfish, deep-water | Annual | W | 0.0000 | 747 | 0
|  | C | 0.0647 | 7,405 | 479
|  | E | 0.0128 | 1,641 | 21
Rex sole | Annual | W | 0.0007 | 988 | 1
|  | C | 0.0384 | 6,506 | 250
|  | E | 0.0029 | 1,333 | 4
Arrowtooth flounder | Annual | W | 0.0021 | 8,000 | 17
|  | C | 0.0280 | 30,000 | 840
|  | E | 0.0002 | 5,000 | 1
Flathead sole | Annual | W | 0.0036 | 2,000 | 7
|  | C | 0.0213 | 5,000 | 107
|  | E | 0.0009 | 4,289 | 4
Pacific ocean perch | Annual | W | 0.0023 | 3,710 | 9
|  | C | 0.0748 | 8,239 | 616
|  | E | 0.0466 | 3,149 | 147
Northern rockfish | Annual | W | 0.0003 | 1,965 | 1
|  | C | 0.0277 | 2,208 | 61
Rougheye rockfish | Annual | W | 0.0000 | 126 | 0
|  | C | 0.0237 | 842 | 20
|  | E | 0.0124 | 329 | 4
Shortraker rockfish | Annual | W | 0.0000 | 120 | 0
|  | C | 0.0218 | 315 | 7
|  | E | 0.0110 | 463 | 5
Other rockfish | Annual | W | 0.0034 | 357 | 1
|  | C | 0.1699 | 569 | 97
|  | E | 0.0000 | 804 | 0
Pelagic shelf rockfish | Annual | W | 0.0001 | 765 | 0
|  | C | 0.0000 | 3,179 | 0
|  | E | 0.0067 | 521 | 3
Demersal shelf rockfish | Annual | SEO | 0.0020 | 362 | 1
Thornyhead rockfish | Annual | W | 0.0280 | 267 | 7
|  | C | 0.0280 | 860 | 24
|  | E | 0.0280 | 783 | 22
Atka mackerel | Annual | Gulfwide | 0.0309 | 2,000 | 62
Big skates | Annual | W | 0.0063 | 632 | 4
|  | C | 0.0063 | 2,065 | 13
|  | E | 0.0063 | 633 | 4
Longnose skates | Annual | W | 0.0063 | 78 | 0
|  | C | 0.0063 | 2,041 | 13
|  | E | 0.0063 | 768 | 5
Other skates | Annual | Gulfwide | 0.0063 | 2,104 | 13
Other species | Annual | Gulfwide | 0.0063 | 4,500 | 28
¹ The Pacific cod A season for trawl gear does not open until January 20.
² The Pacific cod B season for trawl gear closes November 1.

The halibut PSC sideboard limits for non-exempt AFA catcher vessels in the GOA are based on the aggregate retained groundfish catch by non-exempt AFA catcher vessels in each PSC target category from 1995 through 1997 divided by the retained catch of all vessels in that fishery from 1995 through 1997 (§ 679.64(b)(4)). Table 13 lists the proposed 2010 and 2011 catcher vessel halibut PSC limits for non-exempt AFA vessels using trawl gear in the GOA.

Table 13—Proposed 2010 and 2011 Non-Exempt American Fisheries Act Catcher Vessel Halibut Prohibited Species Catch (PSC) Limits for Vessels Using Trawl Gear in the GOA
[Values are in metric tons]
Season | Season dates | Target fishery | Ratio of 1995-1997 non-exempt AFA CV retained catch to total retained catch | Proposed 2010 and 2011 PSC limit | Proposed 2010 and 2011 non-exempt AFA CV PSC limit
1 | January 20-April 1 | shallow-water | 0.340 | 450 | 153
|  | deep-water | 0.070 | 100 | 7
2 | April 1-July 1 | shallow-water | 0.340 | 100 | 34
|  | deep-water | 0.070 | 300 | 21
3 | July 1-September 1 | shallow-water | 0.340 | 200 | 68
|  | deep-water | 0.070 | 400 | 28
4 | September 1-October 1 | shallow-water | 0.340 | 150 | 51
|  | deep-water | 0.070 | 0 | 0
5 | October 1-December 31 | all targets | 0.205 | 300 | 62

Non-AFA Crab Vessel Groundfish Sideboard Limits

Section 680.22 establishes groundfish catch limits for vessels with a history of participation in the Bering Sea snow crab fishery to prevent these vessels from using the increased flexibility provided by the Crab Rationalization Program to expand their level of participation in the GOA groundfish fisheries. Sideboard limits restrict these vessels' catch to their collective historical landings in all GOA groundfish fisheries (except the fixed-gear sablefish fishery). Sideboard limits also apply to landings made using a License Limitation Program (LLP) license derived from the history of a restricted vessel, even if that LLP is used on another vessel.

Sideboard limits for non-AFA crab vessels operating in the GOA are based on their traditional harvest levels of TAC in groundfish fisheries covered by the FMP. Section 680.22(d) and (e) base the groundfish sideboard limits in the GOA on the retained catch by non-AFA crab vessels of each sideboard species from 1996 through 2000 divided by the total retained harvest of that species over the same period. Table 14 lists these proposed 2010 and 2011 groundfish sideboard limits for non-AFA crab vessels. All targeted or incidental catch of sideboard species made by non-AFA crab vessels will be deducted from the sideboard limits in Table 14.

Vessels exempt from Pacific cod sideboards are those that landed less than 45,359 kilograms of Bering Sea snow crab and more than 500 mt of groundfish (in round weight equivalents) from the GOA between January 1, 1996, and December 31, 2000, and any vessel named on an LLP that was generated in whole or in part by the fishing history of a vessel meeting the criteria in § 680.22(a)(3).

Table 14—Proposed 2010 and 2011 GOA Non-American Fisheries Act Crab Vessel Groundfish Harvest Sideboard Limits
[Values are rounded to the nearest metric ton]
Species | Season/gear | Area/component | Ratio of 1996-2000 non-AFA crab vessel catch to 1996-2000 total harvest | Proposed 2010 and 2011 TACs | Proposed 2010 and 2011 non-AFA crab vessel sideboard limit
Pollock | A Season: January 20-March 10 | Shumagin (610) | 0.0098 | 5,132 | 50
|  | Chirikof (620) | 0.0031 | 6,927 | 21
|  | Kodiak (630) | 0.0002 | 3,972 | 1
| B Season: March 10-May 31 | Shumagin (610) | 0.0098 | 5,131 | 50
|  | Chirikof (620) | 0.0031 | 8,591 | 27
|  | Kodiak (630) | 0.0002 | 2,308 | 0
| C Season: August 25-October 1 | Shumagin (610) | 0.0098 | 6,968 | 68
|  | Chirikof (620) | 0.0031 | 3,428 | 11
|  | Kodiak (630) | 0.0002 | 5,634 | 1
| D Season: October 1-November 1 | Shumagin (610) | 0.0098 | 6,968 | 68
|  | Chirikof (620) | 0.0031 | 3,428 | 11
|  | Kodiak (630) | 0.0002 | 5,634 | 1
| Annual | WYK (640) | 0.0000 | 1,929 | 0
|  | SEO (650) | 0.0000 | 8,280 | 0
Pacific cod | A Season: ¹ January 1-June 10 | W inshore | 0.0902 | 12,557 | 1,133
|  | W offshore | 0.2046 | 1,395 | 285
|  | C inshore | 0.0383 | 18,352 | 703
|  | C offshore | 0.2074 | 2,039 | 423
| B Season: ² September 1-December 31 | W inshore | 0.0902 | 8,371 | 755
|  | W offshore | 0.2046 | 930 | 190
|  | C inshore | 0.0383 | 12,235 | 469
|  | C offshore | 0.2074 | 1,359 | 282
| Annual | E inshore | 0.0110 | 2,576 | 28
|  | E offshore | 0.0000 | 286 | 0
Sablefish | Annual, trawl gear | W | 0.0000 | 325 | 0
|  | C | 0.0000 | 925 | 0
|  | E | 0.0000 | 209 | 0
Flatfish shallow-water | Annual | W | 0.0059 | 4,500 | 27
|  | C | 0.0001 | 13,000 | 1
|  | E | 0.0000 | 4,756 | 0
Flatfish, deep-water | Annual | W | 0.0035 | 747 | 3
|  | C | 0.0000 | 7,405 | 0
|  | E | 0.0000 | 1,641 | 0
Rex sole | Annual | W | 0.0000 | 988 | 0
|  | C | 0.0000 | 6,506 | 0
|  | E | 0.0000 | 1,333 | 0
Arrowtooth flounder | Annual | W | 0.0004 | 8,000 | 3
|  | C | 0.0001 | 30,000 | 3
|  | E | 0.0000 | 5,000 | 0
Flathead sole | Annual | W | 0.0002 | 2,000 | 0
|  | C | 0.0004 | 5,000 | 2
|  | E | 0.0000 | 4,289 | 0
Pacific ocean perch | Annual | W | 0.0000 | 3,710 | 0
|  | C | 0.0000 | 8,239 | 0
|  | E | 0.0000 | 3,149 | 0
Northern rockfish | Annual | W | 0.0005 | 1,965 | 1
|  | C | 0.0000 | 2,208 | 0
Rougheye rockfish | Annual | W | 0.0067 | 126 | 1
|  | C | 0.0047 | 842 | 4
|  | E | 0.0008 | 329 | 0
Shortraker rockfish | Annual | W | 0.0013 | 120 | 0
|  | C | 0.0012 | 315 | 0
|  | E | 0.0009 | 463 | 0
Other rockfish | Annual | W | 0.0035 | 357 | 1
|  | C | 0.0033 | 569 | 2
|  | E | 0.0000 | 804 | 0
Pelagic shelf rockfish | Annual | W | 0.0017 | 765 | 1
|  | C | 0.0000 | 3,179 | 0
|  | E | 0.0000 | 521 | 0
Demersal shelf rockfish | Annual | SEO | 0.0000 | 362 | 0
Thornyhead rockfish | Annual | W | 0.0047 | 267 | 1
|  | C | 0.0066 | 860 | 6
|  | E | 0.0045 | 783 | 4
Atka mackerel | Annual | Gulfwide | 0.0000 | 2,000 | 0
Big skate | Annual | W | 0.0392 | 632 | 25
|  | C | 0.0159 | 2,065 | 33
|  | E | 0.0000 | 633 | 0
Longnose skate | Annual | W | 0.0392 | 78 | 3
|  | C | 0.0159 | 2,041 | 32
|  | E | 0.0000 | 768 | 0
Other skates | Annual | Gulfwide | 0.0176 | 2,104 | 37
Other species | Annual | Gulfwide | 0.0176 | 4,500 | 79
¹ The Pacific cod A season for trawl gear does not open until January 20.
² The Pacific cod B season for trawl gear closes November 1.

Rockfish Program Groundfish Sideboard Limitations and Halibut Mortality Limitations

Section 679.82(d)(7) establishes sideboards to limit the ability of participants eligible for the Rockfish Program to harvest fish in fisheries other than the Central GOA rockfish fisheries. The Rockfish Program provides certain economic advantages to harvesters. Harvesters could use this economic advantage to increase their participation in other fisheries, thus possibly adversely affecting the participants in other fisheries. The proposed sideboards for 2010 and 2011 limit the total amount of catch that could be taken by eligible harvesters and limit the amount of halibut mortality to historic levels. The sideboard measures are in effect only during the month of July. Traditionally, the Central GOA rockfish fisheries opened in July. The sideboards are designed to restrict fishing during the historical season for the fishery, but allow eligible rockfish harvesters to participate in fisheries before or after the historical rockfish season. The sideboard provisions are discussed in detail in the proposed rule (71 FR 33040, June 7, 2006) and the final rule (71 FR 67210, November 20, 2006, and 72 FR 37678, July 11, 2007) for the Rockfish Program. Table 15 lists the proposed 2010 and 2011 Rockfish Program harvest limits in the WYK District and the Western GOA. Table 16 lists the proposed 2010 and 2011 Rockfish Program halibut mortality limits for catcher/processors and catcher vessels.

Table 15—Proposed 2010 and 2011 Rockfish Program Harvest Limits by Sector for West Yakutat District and Western GOA by the Catcher/Processor (CP) and Catcher Vessel (CV) Sectors
[Values are rounded to the nearest metric ton]
Area | Fishery | CP sector (% of TAC) | CV sector (% of TAC) | Proposed 2010 and 2011 TACs | Proposed 2010 and 2011 CP limit | Proposed 2010 and 2011 CV limit
West Yakutat District | Pelagic shelf rockfish | 72.4 | 1.7 | 219 | 159 | 4
| Pacific ocean perch | 76.0 | 2.9 | 1,107 | 841 | 32
Western GOA | Pelagic shelf rockfish | 63.3 | 0 | 765 | 484 | 0
| Pacific ocean perch | 61.1 | 0 | 3,710 | 2,267 | 0
| Northern rockfish | 78.9 | 0 | 1,965 | 1,550 | 0

Table 16—Proposed 2010 and 2011 Rockfish Program Halibut Mortality Limits for the Catcher/Processor and Catcher Vessel Sectors
[Values are rounded to the nearest metric ton]
Sector | Shallow-water complex halibut PSC sideboard ratio (percent) | Deep-water complex halibut PSC sideboard ratio (percent) | Annual halibut mortality limit (mt) | Annual shallow-water complex halibut PSC sideboard limit (mt) | Annual deep-water complex halibut PSC sideboard limit (mt)
Catcher/processor | 0.54 | 3.99 | 2,000 | 11 | 80
Catcher vessel | 6.32 | 1.08 | 2,000 | 126 | 22

GOA Amendment 80 Vessel Groundfish Harvest and PSC Limits

Amendment 80 to the Fishery Management Plan for Groundfish of the Bering Sea and Aleutian Islands Management Area, hereinafter referred to as the “Amendment 80 program,” established a limited access privilege program for the non-AFA trawl catcher/processor sector. In order to limit the ability of participants eligible for the Amendment 80 program to expand their harvest efforts in the GOA, the Amendment 80 program established groundfish and halibut PSC limits for Amendment 80 program participants in the GOA.

Section 679.92 establishes groundfish harvesting sideboard limits on all Amendment 80 program vessels, other than the F/V GOLDEN FLEECE, to amounts no greater than the limits shown in Table 37 to part 679. Sideboard limits in the GOA are proposed for pollock in the Western and Central Regulatory Areas and in the WYK District, for Pacific cod gulfwide, for Pacific ocean perch and pelagic shelf rockfish in the Western Regulatory Area and WYK District, and for northern rockfish in the Western Regulatory Area. The harvest of Pacific ocean perch, pelagic shelf rockfish, and northern rockfish in the Central Regulatory Area of the GOA is subject to regulation under the Central GOA Rockfish Program. Amendment 80 program vessels not qualified under the Rockfish Program are excluded from directed fishing for these rockfish species in the Central GOA. Pursuant to regulations, the F/V GOLDEN FLEECE is prohibited from directed fishing for pollock, Pacific cod, Pacific ocean perch, pelagic shelf rockfish, and northern rockfish in the GOA. These sideboard limits are necessary to restrict the ability of participants eligible for the Amendment 80 program to expand their harvest efforts in the GOA.

Groundfish sideboard limits for Amendment 80 vessels operating in the GOA are based on their average aggregate harvests from 1998 to 2004. Table 17 lists the proposed 2010 and 2011 sideboard limits for Amendment 80 vessels. All targeted or incidental catch of sideboard species made by Amendment 80 vessels will be deducted from the sideboard limits in Table 17.

Table 17—Proposed 2010 and 2011 GOA Groundfish Sideboard Limits for Amendment 80 Vessels
Species | Apportionments and allocations by season | Area | Ratio of Amendment 80 sector vessels 1998-2004 catch to TAC | 2010 and 2011 TAC (mt) | 2010 and 2011 Amendment 80 vessel sideboards (mt)
Pollock | A Season: January 20-February 25 | Shumagin (610) | 0.003 | 5,132 | 15
|  | Chirikof (620) | 0.002 | 6,927 | 14
|  | Kodiak (630) | 0.002 | 3,972 | 8
| B Season: March 10-May 31 | Shumagin (610) | 0.003 | 5,131 | 15
|  | Chirikof (620) | 0.002 | 8,591 | 17
|  | Kodiak (630) | 0.002 | 2,308 | 5
| C Season: August 25-September 15 | Shumagin (610) | 0.003 | 6,968 | 21
|  | Chirikof (620) | 0.002 | 3,428 | 7
|  | Kodiak (630) | 0.002 | 5,634 | 11
| D Season: October 1-November 1 | Shumagin (610) | 0.003 | 6,968 | 21
|  | Chirikof (620) | 0.002 | 3,428 | 7
|  | Kodiak (630) | 0.002 | 9,968 | 14
| Annual | WYK (640) | 0.002 | 1,929 | 4
Pacific cod | A Season ¹: January 1-June 10 | W | 0.020 | 13,952 | 279
|  | C | 0.044 | 20,392 | 897
| B Season ²: September 1-December 31 | W | 0.020 | 9,302 | 186
|  | C | 0.044 | 13,594 | 598
| Annual | WYK | 0.034 | 2,862 | 97
Pacific ocean perch | Annual | W | 0.994 | 3,710 | 3,688
|  | WYK | 0.961 | 1,107 | 1,064
Northern rockfish | Annual | W | 1.000 | 1,965 | 1,965
Pelagic shelf rockfish | Annual | W | 0.764 | 765 | 584
|  | WYK | 0.896 | 219 | 196
¹ The Pacific cod A season for trawl gear does not open until January 20.
² The Pacific cod B season for trawl gear closes November 1.

The halibut PSC sideboard limits for Amendment 80 vessels in the GOA are based on the historic use of halibut PSC by Amendment 80 vessels in each PSC target category from 1998 through 2004 (Table 38 to 50 CFR part 679). These values are slightly lower than the average historic use to accommodate two factors: Allocation of halibut PSC cooperative quota under the Central GOA Rockfish Program and the exemption of the F/V GOLDEN FLEECE from this restriction. Table 18 lists the proposed 2010 and 2011 halibut PSC limits for Amendment 80 vessels.

Table 18—Proposed 2010 and 2011 Halibut Prohibited Species Catch (PSC) Limits for Amendment 80 Vessels in the GOA
Season | Season dates | Target fishery | Historic Amendment 80 use of the annual halibut PSC limit catch (ratio) | 2010 and 2011 annual PSC limit (mt) | 2010 and 2011 Amendment 80 vessel PSC limit (mt)
1 | January 20-April 1 | shallow-water | 0.0048 | 2,000 | 10
|  | deep-water | 0.0115 | 2,000 | 23
2 | April 1-July 1 | shallow-water | 0.0189 | 2,000 | 38
|  | deep-water | 0.1072 | 2,000 | 214
3 | July 1-September 1 | shallow-water | 0.0146 | 2,000 | 29
|  | deep-water | 0.0521 | 2,000 | 104
4 | September 1-October 1 | shallow-water | 0.0074 | 2,000 | 15
|  | deep-water | 0.0014 | 2,000 | 3
5 | October 1-December 31 | shallow-water | 0.0227 | 2,000 | 45
|  | deep-water | 0.0371 | 2,000 | 74

Classification

NMFS has determined that the proposed harvest specifications are consistent with the FMP and preliminarily determined that the proposed harvest specifications are consistent with the Magnuson-Stevens Act and other applicable laws.

This action is authorized under 50 CFR 679.20 and is exempt from review under Executive Order 12866.

NMFS prepared a Final EIS for this action and made it available to the public on January 12, 2007 (72 FR 1512). On February 13, 2007, NMFS issued the Record of Decision for the Final EIS. Copies of the Final EIS and Record of Decision for this action are available from NMFS (see ADDRESSES). The Final EIS analyzes the environmental consequences of the proposed groundfish harvest specifications and its alternatives on resources in the action area. The Final EIS found no significant environmental consequences from the proposed action or its alternatives.

NMFS also prepared an Initial Regulatory Flexibility Analysis (IRFA) as required by section 603 of the Regulatory Flexibility Act. The IRFA evaluated the impacts on small entities of alternative harvest strategies for the groundfish fisheries in the exclusive economic zone off of Alaska. While the specification numbers may change from year to year, the harvest strategy for establishing those numbers remains the same. NMFS therefore is using the same IRFA prepared in connection with the EIS. NMFS published a notice of the availability of the IRFA and its summary in the classification section of the proposed harvest specifications for the groundfish fisheries in the GOA in the Federal Register on December 15, 2006 (71 FR 75460). The comment period on the GOA proposed harvest specifications and IRFA ended on January 16, 2007. NMFS did not receive any comments on the IRFA or the economic impacts of the rule generally.

A description of the proposed action, why it is being considered, and the legal basis for this proposed action are contained in the preamble above. A copy of this analysis is available from NMFS (see ADDRESSES). A summary of the IRFA follows.

The action under consideration is a harvest strategy to govern the catch of groundfish in the GOA. The preferred alternative is the status quo harvest strategy in which TACs fall within the range of ABCs recommended by the Council's harvest specification process and TACs recommended by the Council. This action is taken in accordance with the FMP prepared by the Council pursuant to the Magnuson-Stevens Act.

The directly regulated small entities include approximately 747 small catcher vessels and fewer than 20 small catcher/processors. The entities directly regulated by this action are those that harvest groundfish in the exclusive economic zone of the GOA, and in parallel fisheries within State of Alaska waters. These include entities operating catcher vessels and catcher/processor vessels within the action area, and entities receiving direct allocations of groundfish. Catcher vessels and catcher/processors were considered to be small entities if they had annual gross receipts of $4 million per year or less from all economic activities, including the revenue of their affiliated operations. Data from 2005 were the most recent available and were used to determine the number of small entities.

Estimates of first wholesale gross revenues for the GOA were used as indices of the potential impacts of the alternative harvest strategies on small entities. An index of revenues was projected to decline under the preferred alternative due to declines in ABCs for key species in the GOA. The index of revenues declined by less than 4 percent between 2007 and 2008 and by less than one percent between 2007 and 2009.

The preferred alternative (Alternative 2) was compared to four other alternatives. These included Alternative 1, which would have set TACs to generate fishing rates equal to the maximum permissible ABC (if the full TAC were harvested), unless the sum of TACs exceeded the GOA OY, in which case harvests would be limited to the OY. Alternative 3 would have set TACs to produce fishing rates equal to the most recent five-year average fishing rate. Alternative 4 would have set TACs to equal the lower limit of the GOA OY range. Alternative 5 would have set TACs equal to zero. Alternative 5 is the “no action” alternative.

Alternatives 3, 4, and 5 were all associated with smaller levels for important fishery TACs than Alternative 2. Estimated total first wholesale gross revenues were used as an index of potential adverse impacts to small entities. As a consequence of the lower TAC levels, Alternatives 3, 4, and 5 all had smaller first wholesale revenue indices than Alternative 2. Thus, Alternatives 3, 4, and 5 had greater adverse impacts on small entities. Alternative 1 appeared to generate higher values of the gross revenue index for fishing operations in the GOA than Alternative 2. A large part of the Alternative 1 GOA revenue appeared to be due to the assumption that the full Alternative 1 TAC would be harvested. Much of the larger revenue was due to increases in flatfish TACs that were much greater for Alternative 1 than for Alternative 2. In recent years, halibut bycatch constraints in these fisheries have kept actual flatfish catches from reaching Alternative 1 levels. Therefore, a large part of the revenues presumed to be associated with Alternative 1 are unlikely to be realized. Also, Alternative 2 TACs are constrained by the ABCs that the Plan Teams and SSC are likely to recommend to the Council on the basis of a full consideration of biological issues. These ABCs are often less than the maximum permissible ABCs of Alternative 1. Therefore higher TACs under Alternative 1 may not be consistent with prudent biological management of the resource. For these reasons, Alternative 2 is the preferred alternative.

This action does not modify recordkeeping or reporting requirements, or duplicate, overlap, or conflict with any Federal rules.

Adverse impacts on marine mammals resulting from fishing activities conducted under this rule are discussed in the Final EIS (see ADDRESSES).

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: November 23, 2009.
Samuel D. Rauch III,
Deputy Assistant Administrator for Regulatory Programs, National Marine Fisheries Service.

[FR Doc. E9-28544 Filed 11-27-09; 8:45 am]

BILLING CODE 3510-22-P